NUCLEAR REGULATORY COMMISSION

Notice of Issuance of Final Design Approval and Final Safety Evaluation Report, Supplement 1, for AP600 Standard Plant Design Westinghouse Electric Company

The U.S. Nuclear Regulatory Commission (NRC) has issued Supplement 1 to the Final Safety Evaluation Report (FSER) related to certification of the AP600 Standard Plant Design. On the basis of the evaluation described in the FSER (NUREG-1512) and Supplement 1 thereto, the NRC staff concludes that the confirmatory issues in NUREG-1512 are resolved, the AP600 design documentation is acceptable, and Westinghouse's application for design certification meets the requirements of Subpart B to 10 CFR Part 52 that are applicable and technically relevant to the AP600 Standard Plant Design.

The NRC has also issued a revised final design approval (FDA) to Westinghouse for the AP600 design under 10 CFR part 52, appendix O. This FDA allows the AP600 design to be referenced in an application for a construction permit or an operating license under 10 CFR Part 50, or an application for a combined license under 10 CFR part 52. The FDA was revised to make it coterminous with the design certification rule that was issued on December 23, 1999 (Appendix C to 10 CFR part 52). This FDA supersedes the FDA dated September 3, 1998.

A copy of the AP600 FDA and Supplement 1 to the FSER have been placed in the NRC's Public Document Room, the Gelman Building, 2120 L Street, NW, Washington DC 20037, for review and copying by interested persons.

Dated at Rockville, Maryland, this 31st day of March 2000.
For the Nuclear Regulatory Commission.
Christopher I. Grimes,
Chief, License Renewal and Standardization Branch, Division of Regulatory Improvement Programs, Office of Nuclear Reactor Regulation.

[FR Doc. 00-8632 Filed 4-6-00; 8:45 am]

BILLING CODE 7590-01-P